DEPARTMENT OF HEALTH AND HUMAN SERVICES

Administration for Children and Families

Temporary Assistance for Needy Families (TANF) Data Innovations (TDI) Project (New Collection)

AGENCY: Office of Planning, Research, and Evaluation; ACF; HHS.

ACTION: Submission for OMB Review; Comment Request.

SUMMARY: The Administration for Children and Families (ACF) within the U.S. Department of Health and Human Services (HHS) proposes to collect information as part of the TANF Data Innovations (TDI) project. TDI is an investment to expand the integration, analysis, and use of TANF data to improve program administration, payment integrity, and outcomes for participants.

TDI will start by assessing the needs and readiness of TANF agencies across the country to set up and operate data systems to support program improvement. A key goal of the needs assessment is to help categorize states' readiness to effectively use data and produce evidence. Informed by this assessment and discussions with key stakeholders, TDI will support a broad learning collaborative of state agencies and other entities related to the TANF program, including a range of Technical Assistance (TA) options to help states improve their use of TANF and other program data. This information collection request will consist of a needs assessment survey to be completed by state TANF agency administrators and staff to gather detailed information about their capacities and needs. These data will help HHS to better understand the challenges and barriers states face in using data and research to inform program decision-making, and they will help the TDI team design future technical assistance activities for TANF agencies to address states' challenges.

Respondents: State TANF Administrators and TANF agency staff. We expect four respondents per state or territory.

Annual Burden Estimates
Instrument | Total/annual number of respondents | Number of responses per respondent | Average burden hours per response | Annual burden hours
Needs Assessment Survey | 216 | 2 | 0.25 | 108

Estimated Total Annual Burden Hours: 108.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

Authority: Sec. 413, Pub. L. 115-31.

Emily B. Jabbour,
ACF/OPRE Certifying Officer.

[FR Doc. 2018-20085 Filed 9-14-18; 8:45 am]

BILLING CODE 4184-09-P